DEPARTMENT OF ENERGY

Federal Energy Regulatory Commission

Combined Notice of Filings #1

Take notice that the Commission received the following electric corporate filings:

Docket Numbers: EC12-48-000.

Applicants: International Transmission Company.

Description: Application of International Transmission Company for approval of acquisition and disposition of transmission assets pursuant to section 203 of the Federal Power Act.

Filed Date: 12/14/2011.

Accession Number: 20111214-5145.

Comments Due: 5 p.m. ET 1/4/12.

Docket Numbers: EC12-49-000.

Applicants: Shiloh III Wind Project, LLC, Shiloh III Lessee, LLC.

Description: Joint Application for Authorization under Section 203 of the Federal Power Act and Request for Expedited Consideration of Shiloh III Wind Project, LLC, et al.

Filed Date: 12/14/2011.

Accession Number: 20111214-5146.

Comments Due: 5 p.m. ET 1/4/12.

Take notice that the Commission received the following exempt wholesale generator filings:

Docket Numbers: EG12-20-000.

Applicants: Shiloh III Lessee, LLC.

Description: Notice of Self-Certification of Exempt Wholesale Generator Status of Shiloh III Lessee, LLC.

Filed Date: 12/13/11.

Accession Number: 20111213-5188.

Comments Due: 5 p.m. ET 1/3/12.

Take notice that the Commission received the following electric rate filings:

Docket Numbers: ER08-1126-004; ER08-1128-004; ER08-1129-004; ER08-1130-004; ER08-1131-004; ER08-1134-004; ER08-1135-004; ER08-1136-004; ER08-1137-004; ER08-1139-004.

Applicants: Georgia-Pacific Brewton LLC, Brunswick Cellulose, Inc., Georgia-Pacific Cedar Springs LLC, Georgia-Pacific Consumer Operations LLC Palatka, Georgia-Pacific Consumer Operations LLC Port Hudson, Georgia-Pacific Consumer Products LP Naheola, Georgia-Pacific Consumer Products LP Savannah, Georgia-Pacific LLC Crossett, Georgia-Pacific Monticello LLC, Leaf River Cellulose, LLC.

Description: Triennial MBR Filing on behalf of Georgia-Pacific Entities.

Filed Date: 12/14/11.

Accession Number: 20111214-5122.

Comments Due: 5 p.m. ET 2/13/12.

Docket Numbers: ER11-2815-004.

Applicants: PJM Interconnection, L.L.C., American Transmission Systems, Incorporated.

Description: Errata to Compliance Filing in Docket ER11-2815-002 re technical correction only to be effective 6/1/2011.

Filed Date: 12/13/11.

Accession Number: 20111213-5118.

Comments Due: 5 p.m. ET 1/3/12.

Docket Numbers: ER11-3949-003.

Applicants: New York Independent System Operator, Inc.

Description: New York Independent System Operator, Inc. submits tariff filing per 35: NYISO Compliance Filing re: Order 741 Directives to be effective 6/30/2012.

Filed Date: 12/14/11.

Accession Number: 20111214-5084.

Comments Due: 5 p.m. ET 1/4/12.

Docket Numbers: ER11-3973-002.

Applicants: California Independent System Operator Corporation.

Description: California Independent System Operator Corporation submits tariff filing per 35: 2011-12-14 CAISO's Credit Reform Compliance Filing to be effective 4/30/2012.

Filed Date: 12/14/11.

Accession Number: 20111214-5121.

Comments Due: 5 p.m. ET 1/4/12.

Docket Numbers: ER11-4272-002.

Applicants: ITC Midwest LLC.

Description: Filing of a Deficiency Response to be effective 10/10/2011.

Filed Date: 12/13/11.

Accession Number: 20111213-5089.

Comments Due: 5 p.m. ET 1/3/12.

Docket Numbers: ER11-4602-001.

Applicants: IDT Energy, Inc.

Description: IDT Energy, Inc. submits tariff filing per 35: Amendment to MBR Baseline to be effective 9/22/2011.

Filed Date: 12/14/11.

Accession Number: 20111214-5106.

Comments Due: 5 p.m. ET 1/4/12.

Docket Numbers: ER12-199-001.

Applicants: Coram California Development, L.P.

Description: Coram California Development, L.P. submits tariff filing per 35.17(b): Amendment to Coram California Development LP's Initial Market-Based Rate Tariff to be effective 2/1/2012.

Filed Date: 12/14/11.

Accession Number: 20111214-5125.

Comments Due: 5 p.m. ET 1/4/12.

Docket Numbers: ER12-328-001.

Applicants: Stony Creek Wind Farm, LLC.

Description: Amendment to Application For Category 1 Seller Designation In Southeast Region to be effective 1/1/2012.

Filed Date: 12/13/11.

Accession Number: 20111213-5105.

Comments Due: 5 p.m. ET 1/3/12.

Docket Numbers: ER12-598-000.

Applicants: New York Independent System Operator, Inc.

Description: Niagara Mohawk & Athens Generating Company Cost Reimbursement Agreement 1823 to be effective 11/18/2011.

Filed Date: 12/13/11.

Accession Number: 20111213-5031.

Comments Due: 5 p.m. ET 1/3/12.

Docket Numbers: ER12-599-000.

Applicants: Avista Corporation.

Description: Service Agreement No. T1108—Construction Agreement to be effective 12/13/2011.

Filed Date: 12/13/11.

Accession Number: 20111213-5134.

Comments Due: 5 p.m. ET 1/3/12.

Docket Numbers: ER12-600-000.

Applicants: Midwest Independent Transmission System Operator, Inc.

Description: DPC-ATC T-T to be effective 12/14/2011.

Filed Date: 12/13/11.

Accession Number: 20111213-5148.

Comments Due: 5 p.m. ET 1/3/12.

Docket Numbers: ER12-601-000.

Applicants: PPL Montour, LLC.

Description: Certificate of Concurrence relating to the Keystone Generating Station to be effective 1/1/2012.

Filed Date: 12/13/11.

Accession Number: 20111213-5168.

Comments Due: 5 p.m. ET 1/3/12.

Docket Numbers: ER12-602-000.

Applicants: PPL Montour, LLC.

Description: Certificate of Concurrence relating to the Conemaugh Generating Station to be effective 1/1/2012.

Filed Date: 12/13/11.

Accession Number: 20111213-5169.

Comments Due: 5 p.m. ET 1/3/12.

Docket Numbers: ER12-603-000.

Applicants: Avista Corporation.

Description: Cancellation of Rate Schedule No. 527 (RPSA) to be effective 10/1/2011.

Filed Date: 12/14/11.

Accession Number: 20111214-5000.

Comments Due: 5 p.m. ET 1/4/12.

Docket Numbers: ER12-604-000.

Applicants: Southern California Edison Company.

Description: Southern California Edison Company submits tariff filing per 35.13(a)(2)(iii: Amendment to IFA and Service Agreement with Wintec Energy Ltd. to be effective 12/15/2011.

Filed Date: 12/14/11.

Accession Number: 20111214-5101.

Comments Due: 5 p.m. ET 1/4/12.

Docket Numbers: ER12-605-000.

Applicants: Power Network New Mexico, LLC.

Description: Power Network New Mexico, LLC submits tariff filing per 35.12: Power Network New Mexico MBRA Application to be effective 3/1/2012.

Filed Date: 12/14/11.

Accession Number: 20111214-5124.

Comments Due: 5 p.m. ET 1/4/12.

Docket Numbers: ER12-606-000.

Applicants: UGI Development Company.

Description: UGI Development Company submits tariff filing per 35.13(a)(2)(iii: UGI Development Company—Certificate of Concurrence to be effective 1/1/2012.

Filed Date: 12/14/11.

Accession Number: 20111214-5129.

Comments Due: 5 p.m. ET 1/4/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2011.
Nathaniel J. Davis, Sr.,
Deputy Secretary.

[FR Doc. 2011-32884 Filed 12-22-11; 8:45 am]

BILLING CODE 6717-01-P